DEPARTMENT OF HOMELAND SECURITY

[Docket No. DHS-2023-0043]

Establishment of Homeland Security Advisory Council Subcommittee

AGENCY: Office of Partnership and Engagement (OPE), Department of Homeland Security (DHS).

ACTION: Notice of new tasking for the Homeland Security Advisory Council (HSAC).

SUMMARY: On November 14, 2023, DHS Secretary Alejandro Mayorkas issued a memorandum tasking the HSAC with establishing a subcommittee to provide recommendations to the Department to combat online child sexual exploitation and abuse. Details of the tasking are included below. This notice is not a solicitation for membership.

FOR FURTHER INFORMATION CONTACT: Rebecca Sternhell, Principal Deputy Assistant Secretary & Acting Executive Director, Homeland Security Advisory Council, Office of Partnership and Engagement, U.S. Department of Homeland Security at HSAC@hq.dhs.gov or 202-891-2876.

SUPPLEMENTARY INFORMATION: The Homeland Security Advisory Council provides organizationally independent, strategic, timely, specific, and actionable advice and recommendations for the consideration of the Secretary of the Department of Homeland Security on matters related to homeland security. The Homeland Security Advisory Council is comprised of leaders in local law enforcement, first responders, public health, State, local and tribal government, national policy, the private sector, and academia.

The Secretary has requested that the HSAC form a new subcommittee to provide recommendations to the Department to combat online child sexual exploitation and abuse. Specifically, the tasking requested the following:

1. An assessment of how DHS can streamline and strengthen internal operations across components to effectively coordinate and collectively address online child sexual exploitation and abuse alongside our international partners, the technology industry, and non-governmental organizations.

2. An assessment and development of recommended actions for the technology industry to proactively identify, report, and prevent future sexual exploitation and abuse of children online. The assessment should include:

a. A review of existing authorities and how DHS could utilize these authorities to move our interests forward; and

b. Identification of the barriers impeding industry from providing actionable information to law enforcement to identify victims and perpetrators.

3. An assessment to gauge the strengths, gaps, and opportunities in public awareness, industry engagement, and whole-of-community involvement. This assessment should include recommendations for cross-industry collaboration to raise public awareness of online Child Sexual Exploitation and Abuse (CSEA).

A full report of findings and recommendations is due to be submitted from the HSAC by April 2024.

Dated: November 16, 2023.
Rebecca Sternhell,
Acting Executive Director, Homeland Security Advisory Council, Department of Homeland Security.

[FR Doc. 2023-25775 Filed 11-21-23; 8:45 am]

BILLING CODE 9112-FN-P